DEPARTMENT OF HOMELAND SECURITY

Coast Guard

33 CFR Part 117

[Docket No. USCG-2017-0695]

RIN 1625-AA09

Drawbridge Operation Regulation; Chambers Bay, Steilacoom, WA

AGENCY: Coast Guard, DHS.

ACTION: Notice of proposed rulemaking.

SUMMARY: The Coast Guard proposes to modify the operating schedule that governs the Chambers Bay railroad lift bridge (Chambers Bay Bridge) across Chambers Bay, mile 0.01, near Steilacoom in Pierce County, WA. The modified schedule would remove the stationed bridge operator at the subject drawbridge during the evening hours due to minimal usage between these hours.

DATES: Comments and related material must reach the Coast Guard on or before April 11, 2018.

ADDRESSES: You may submit comments identified by docket number USCG-2017-0695 using Federal eRulemaking Portal at http://www.regulations.gov.

See the “Public Participation and Request for Comments” portion of the SUPPLEMENTARY INFORMATION section below for instructions on submitting comments.

FOR FURTHER INFORMATION CONTACT: If you have questions on this proposed rule, call or email Steven M. Fischer, Bridge Administrator, Thirteenth Coast Guard District Bridge Program Office, telephone 206-220-7282; email d13-pf-d13bridges@uscg.mil.

SUPPLEMENTARY INFORMATION:

I. Table of Abbreviations

CFR Code of Federal Regulations

DHS Department of Homeland Security

FR Federal Register

NPRM Notice of proposed rulemaking

BNSF Burlington Northern Santa Fe

§ Section

U.S.C. United States Code

II. Background, Purpose and Legal Basis

The Coast Guard proposes to add a new operating schedule that governs the Chambers Bay Bridge. Burlington Northern Santa Fe Railway Company (BNSF) owns and operates the vertical lift Chambers Bay Bridge, mile 0.01, near Steilacoom in Pierce County, WA, and has requested a change to the operating schedule based on minimum usage between 10 p.m. and 6 a.m. over the past 6 years. The subject bridge operates in accordance with 33 CFR 117.5 which is the draw shall open on demand. This proposed rule will be a specific operating rule in Subpart B for the subject bridge. We propose a new rule that will not require the subject bridge to station an operator from 10 p.m. to 6 a.m., but the draw shall open on signal if at least four hours of notice is given. The draw will be required to open as soon as possible, no later than one hour after notification, for vessels engaged in emergency response.

Chambers Bay Bridge has a vertical clearance of 10ft in the closed-to-navigation position, and 50ft of vertical clearance in the open-to-navigation position (reference MHW elevation of 12.2 feet). We published a test deviation on July 20, 2017, in the Federal Register (82 FR 33448) titled Drawbridge Operation Regulation; Chambers Creek, Steilacoom, WA. No comments have been received for the test deviation. During the test deviation, we have not received any complaints on the operation of the Chambers Bay Bridge with no operator stationed from 10 p.m. to 6 a.m., and openings with an hour's notice to test emergency response have been conducted successfully.

The purpose of this rulemaking is to ensure the safety of vessels and the navigable waters passing under, through or near the Chambers Bay Bridge. The Coast Guard proposes this rulemaking under authority in 33 U.S.C. 1231.

III. Discussion of Proposed Rule

Chambers Bay provides no alternate routes to pass around the Chambers Bay Bridge. This new rule would allow BNSF to better balance the needs of marine and rail traffic. In the last 6 years, only 2% of the subject bridge lifts have occurred between the hours of 10 p.m. and 6 a.m., which equates to approximately 5 openings a year. Between February 2009 to June 2015, 1,932 total openings were conducted, and of those, 40 occurred between the hours of 10 p.m. and 6 a.m.

IV. Regulatory Analyses

We developed this proposed rule after considering numerous statutes and Executive Orders related to rulemaking. Below we summarize our analysis based on these statutes and Executive Orders, and we discuss First Amendment rights of protestors.

A. Regulatory Planning and Review

Executive Orders 12866 and 13563 direct agencies to assess the costs and benefits of available regulatory alternatives and, if regulation is necessary, to select regulatory approaches that maximize net benefits. Executive Order 13771 directs agencies to control regulatory costs through a budgeting process. This NPRM has not been designated a “significant regulatory action,” under Executive Order 12866. Accordingly, the NPRM has not been reviewed by the Office of Management and Budget (OMB), and pursuant to OMB guidance, it is exempt from the requirements of Executive Order 13771. This regulatory action determination is based on the ability for mariners to transit under the bridge from 10 p.m. to 6 a.m. with no operator present if a four hour notice is given. The drawbridge will also be required to open as soon as possible, but no later than one hour after notification, for vessels engaged in emergency response.

B. Impact on Small Entities

The Regulatory Flexibility Act of 1980 (RFA), 5 U.S.C. 601-612, as amended, requires federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this proposed rule would not have a significant economic impact on a substantial number of small entities.

While some owners or operators of vessels intending to transit under the bridge may be small entities, for the reasons stated in section IV.A. above, this proposed rule would not have a significant economic impact on any vessel owner or operator. Navigation traffic within Chambers Bay consists primarily of the tenants of Chambers Bay marina (recreational users) that are members of the Chambers Bay Boating Association. The boating association has been involved with this operating schedule change, and we have communicated with them requesting for their participation by submitting public comments. No comments have been received.

If you think that your business, organization, or governmental jurisdiction qualifies as a small entity and that this rule would have a significant economic impact on it, please submit a comment (see ADDRESSES) explaining why you think it qualifies and how and to what degree this rule would economically affect it.

Under section 213(a) of the Small Business Regulatory Enforcement Fairness Act of 1996 (Pub. L. 104-121), we want to assist small entities in understanding this proposed rule. If the rule would affect your small business, organization, or governmental jurisdiction and you have questions concerning its provisions or options for compliance, please contact the person listed in the FOR FURTHER INFORMATION CONTACT, above. The Coast Guard will not retaliate against small entities that question or complain about this proposed rule or any policy or action of the Coast Guard.

C. Collection of Information

This proposed rule would call for no new collection of information under the Paperwork Reduction Act of 1995 (44 U.S.C. 3501-3520.).

D. Federalism and Indian Tribal Government

A rule has implications for federalism under Executive Order 13132, Federalism, if it has a substantial direct effect on the States, on the relationship between the national government and the States, or on the distribution of power and responsibilities among the various levels of government. We have analyzed this proposed rule under that Order and have determined that it is consistent with the fundamental federalism principles and preemption requirements described in Executive Order 13132.

Also, this proposed rule does not have tribal implications under Executive Order 13175, Consultation and Coordination with Indian Tribal Governments, because it would not have a substantial direct effect on one or more Indian tribes, on the relationship between the Federal Government and Indian tribes, or on the distribution of power and responsibilities between the Federal Government and Indian tribes. If you believe this proposed rule has implications for federalism or Indian tribes, please contact the person listed in the FOR FURTHER INFORMATION CONTACT section above.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule will not result in such expenditure, we do discuss the effects of this proposed rule elsewhere in this preamble.

F. Environment

We have analyzed this proposed rule under Department of Homeland Security Management Directive 023-01 and Commandant Instruction M16475.lD, which guides the Coast Guard in complying with the National Environmental Policy Act of 1969 (NEPA) (42 U.S.C. 4321-4370f), and have made a preliminary determination that this action is one of a category of actions which do not individually or cumulatively have a significant effect on the human environment. This proposed rule simply promulgates the operating regulations or procedures for drawbridges. Normally such actions are categorically excluded from further review, under figure 2-1, paragraph (32) (e), of the Instruction.

A preliminary Record of Environmental Consideration and a Memorandum for the Record are not required for this proposed rule. We seek any comments or information that may lead to the discovery of a significant environmental impact from this proposed rule.

G. Protest Activities

The Coast Guard respects the First Amendment rights of protesters. Protesters are asked to contact the person listed in the FOR FURTHER INFORMATION CONTACT section to coordinate protest activities so that your message can be received without jeopardizing the safety or security of people, places or vessels.

V. Public Participation and Request for Comments

We view public participation as essential to effective rulemaking, and will consider all comments and material received during the comment period. Your comment can help shape the outcome of this rulemaking. If you submit a comment, please include the docket number for this rulemaking, indicate the specific section of this document to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions.

We accept anonymous comments. All comments received will be posted without change to http://www.regulations.gov and will include any personal information you have provided. For more about privacy and the docket, visit http://www.regulations.gov/privacynotice.

Documents mentioned in this NPRM as being available in this docket and all public comments, will be in our online docket at http://www.regulations.gov and can be viewed by following that website's instructions. Additionally, if you go to the online docket and sign up for email alerts, you will be notified when comments are posted or a final rule is published.

List of Subjects in 33 CFR Part 117

Bridges.

For the reasons discussed in the preamble, the Coast Guard proposes to amend 33 CFR part 117 as follows:

PART 117—DRAWBRIDGE OPERATION REGULATIONS

1. The authority citation for part 117 continues to read as follows:

Authority: 33 U.S.C. 499; 33 CFR 1.05-1; Department of Homeland Security Delegation No. 0170.1.

2. Add § 117.1029 to read as follows:

§ 117.1029 Chambers Bay.

The draw of the Chambers Bay railroad lift bridge, mile 0.01, at Chambers Bay, shall open on signal except between 10 p.m. to 6 a.m. The draw shall open on signal from 10 p.m. to 6 a.m. when at least four hours of notice has been given via the phone number posted on the bridge, and as soon as possible, no later than 1 hour after notification, for vessels engaged in emergency response.

Dated: February 16, 2018.
Brendan C. McPherson,
Captain, U.S. Coast Guard, Acting Commander, Thirteenth Coast Guard District.

[FR Doc. 2018-04912 Filed 3-9-18; 8:45 am]

BILLING CODE 9110-04-P